DEPARTMENT OF TRANSPORTATION

Office of the Secretary

14 CFR Part 300

[Docket No. OST-2002-12200]

RIN 2105-AD10

Reporting Prohibited Communications

AGENCY: Office of the Secretary, DOT.

ACTION: Final rule.

SUMMARY: The Department is amending a provision regarding aviation economic rules in order to eliminate an obsolete provision.

EFFECTIVE DATE: Rule shall become effective on May 6, 2002.

FOR FURTHER INFORMATION CONTACT: Colleen Hanley, Attorney-Advisor, Department of Transportation, 400 Seventh Street, SW., Washington, DC 20590, (202) 366-2509, colleen.hanley@ost.dot.gov. Office hours are from 8 a.m. to 5:30 p.m., Monday through Friday, except Federal holidays.

SUPPLEMENTARY INFORMATION: One of our aviation economic regulations requires minor changes to eliminate an obsolete provision in light of the Department's transition to an electronic docket system. Specifically, this document amends a rule of conduct in aviation economic adjudicatory proceedings regarding the method of filing prohibited communications or correspondence. The revision recognizes that prohibited communications in docketed cases are made available to the public through the Department's Internet-based Docket Management System (“DMS”).

The substance of § 300.3 deals with reporting of prohibited communications, and does not reflect procedures currently in place. This section was enacted prior to the Department's use of an electronic docket. The web-based Docket Management System, now currently utilized, provides a searchable and downloadable database on which all public communications with the DOT are posted under their current docket number. DMS is searchable by date, docket number, terms, party name(s), or document type, providing a much more efficient means of locating information pertaining to any such communications referred to in §§ 300.3 (b)(1)-(2). Once the corresponding docket number is located, a viewable and downloadable listing of all filings, pleadings, orders, and correspondence will be accessible to the user. Other sections within § 300.3 will be amended to be consistent with these changes.

Under the Administrative Procedure Act (5 U.S.C. 553), the Department determines that notice and an opportunity for public comment are impracticable, unnecessary, and contrary to the public interest. The amendments made in this document are ministerial, removing obsolete and redundant material or making minor technical and terminology changes. These changes will have no substantive impact, and the Department would not anticipate receiving meaningful comments on them. Comment is therefore unnecessary, and it would be contrary to the public interest to delay unnecessarily this effort to eliminate or revise outdated rules.

An electronic copy of this document may be downloaded from the Internet using the universal resource locator (URL): http://dms.dot.gov. It is available 24 hours each day, 365 days each year. Please follow the instructions online for more information and help.

Regulatory Analyses and Notices

Executive Order 12866 (Regulatory Planning and Review) and DOT Regulatory Policies and Procedures

This final rule is not considered a significant regulatory action under section 3(f) of Executive Order 12866 and, therefore, was not reviewed by the Office of Management and Budget. This rule is not considered significant under the Regulatory Policies and Procedures of the Department of Transportation (44 FR 11034). Because of the minimal economic impact of this rule, preparation of a regulatory impact analysis or a regulatory evaluation is not warranted.

Executive Order 13132 (Federalism Assessment)

This final rule has been analyzed in accordance with the principles and criteria contained in Executive Order 13132 (“Federalism”). This final rule does not adopt any regulation that has substantial direct effect on States, the relationship between the national government and the States, or the distribution of power and responsibilities among the various levels of government. Therefore, the consultation and funding requirements of Executive Order 131232 do not apply.

Regulatory Flexibility Act

The Regulatory Flexibility Act (5 U.S.C. 601, et seq.) requires an agency to review regulations to assess their impact on small entities unless the agency determines that a rule is not expected to have a significant impact on a substantial number of small entities. The Regulatory Flexibility Act applies only to final rules that are preceded by notices of proposed rulemaking. Because this amendment was not preceded by an NPRM, no assessment is required.

Paperwork Reduction Act

This final rule does not impose any new information collection burdens.

Regulation Identifier (RIN)

A regulation identifier (RIN) is assigned to each regulatory action listed in the Unified Agenda of Federal Regulations. The Regulatory Information Service Center publishes the Unified Agenda in April and October of each year. The RIN contained in the heading of this document can be used to cross-reference this action with the Unified Agenda.

Unfunded Mandates Reform Act

This final rule imposes no mandates and, thus, does not impose unfounded mandates under the Unfunded Mandates Reform Act of 1995.

National Environmental Policy Act

The Department has analyzed this action for the purpose of the National Environmental Policy Act of 1969 (42 U.S.C. 4321-4347) and had determined that this action will not have any effect on the quality of the environment.

Final Rule

For the reasons set out in the preamble, Title 14, Chapter II of the Code of Federal Regulations is amended to read as follows:

List of Subjects in 14 CFR Part 300

Administrative practice and procedure, Prohibited communications, Conflict of interests, Reporting and recordkeeping requirements.

PART 300—[Amended]

1. The authority for part 300 continues to read as follows:

Authority: 49 U.S.C. subtitle I and chapters 401, 411, 413, 415, 417, 419, 421, 449, 461, 463, 465.

2. In § 300.3, in paragraph (b)(1), remove the words “put into the correspondence or other appropriate file of the proceeding” and add, in their place, the words “placed onto the electronic docket management system (DMS) in the file of the docket number corresponding to the proceeding” and remove the words “the Documentary Services Division” and add, in their place, the words “Office of Docket Operations and Media Management”; revise paragraph (b)(3) to read as set forth below; and in paragraph (c)(1), remove the words “the Documentary Services Division” and add, in their place, the words “Office of Docket Operations and Media Management”.

The revised text reads as follows:

§ 300.3 Reporting of communications.

* * * * *

(b) * * *

(3) Electronic copies of written communications and oral summaries shall be posted to the DOT's electronic docket. Such docketed materials may be searched, viewed, and downloaded through the Internet at http://dms.dot.gov.

* * * * *

Issued in Washington, DC, on April 25, 2002.
Read Van de Water,
Assistant Secretary for Aviation and International Affairs.

[FR Doc. 02-11049 Filed 5-3-02; 8:45 am]

BILLING CODE 4910-62-P